DEPARTMENT OF DEFENSE

Department of the Army, Corps of Engineers

Intent To Prepare a Draft Supplemental Environmental Impact Statement (DSEIS) for the Haile Gold Mine in Lancaster County, South Carolina

AGENCY: U.S. Army Corps of Engineers, DoD.

ACTION: Notice of intent.

SUMMARY: The U.S. Army Corps of Engineers, Charleston District intends to prepare a Draft Supplemental Environmental Impact Statement (DSEIS) to assess the likely social, economic and environmental effects of the proposed expansion of an existing gold mine with the potential to impact Waters of the United States near Kershaw in Lancaster County, South Carolina. The DSEIS will assess potential effects of a range of alternatives.

DATES: Public Scoping Meeting: A public scoping meeting has not been scheduled; however, a local public notice will be issued by the Charleston District, and a meeting announcement will be published in local newspapers once the date and location for the scoping meeting has been determined.

ADDRESSES: Mr. Shawn Boone, Project Manager, Charleston District, Regulatory Division, 69-A Hagood Avenue, Charleston, SC 29403.

FOR FURTHER INFORMATION CONTACT: For further information and/or questions about the proposed mine expansion project and DSEIS, please contact Mr. Shawn Boone, Project Manager, by telephone: 843-329-8158, or toll-free 1-866-329-8187, or by mail: shawn.a.boone@usace.army.mil. For inquiries from the media, please contact the Corps, Charleston District Corporate Communications Officer (CCO), Ms. Glenn Jeffries by telephone: (843) 329-8123.

SUPPLEMENTARY INFORMATION: The Corps is evaluating a proposal from OceanaGold for the expanded development of the Haile Gold Mine in accordance with Corps regulations and the policies and procedures that are established in the National Environmental Policy Act (NEPA). Based on the available information, the Corps has determined that the expansion of the mine has the potential to significantly affect the quality of the human environment and therefore warrant the preparation of a Supplemental EIS. Additional information about the proposed project and the NEPA process is available on the project website at: www. hailegoldmineseis.com.

1. Description of Proposed Project. The Haile Gold Mine expansion plan (the proposed Project) includes the ore mining and processing operations that would recover gold and silver by excavating pits and underground deposits, storing excavated soils and overburden, processing the ore, managing surface water and ground water during operations, reclaiming the site at the end of operations, and monitoring site conditions post-mining. The site of the Project is currently an operating mine which was the subject of an Environmental Impact Statement published in 2014.

2. Alternatives. A range of alternatives to the proposed action will be identified, and those found to be reasonable alternatives will be fully evaluated in the DSEIS, including: The no-action alternative, the applicant's proposed alternative, alternative site configurations, alternatives that may result in avoidance and minimization of impacts, and mitigation measures not in the proposed action. However, this list is not exclusive and additional alternatives may be considered for inclusion.

3. Scoping and Public Involvement Process. A scoping meeting will be conducted to gather information on the scope of the project and alternatives to be addressed in the DSEIS. Individuals and organizations that are interested in the proposed mine expansion or whose interests may be affected by the proposed work are encouraged to attend the scoping meeting to submit oral and/or written comments to the Charleston District. Additional public and agency involvement will be sought through the implementation of a public involvement plan and through an agency coordination team.

4. Significant Issues. Issues associated with the proposed project to be given detailed analysis in the DSEIS are likely to include, but are not necessarily limited to, the potential impacts of the proposed development on surface and groundwater quality, aquatic habitat and biota, wetlands and stream habitats, federal and state listed species of concern, indirect and cumulative impacts, threatened and endangered species, environmental justice, mitigation, emergency response and contingency plans, noise, conservation, economics, cultural resources, aesthetics, general environmental concerns, historic properties, fish and wildlife values, flood hazards, land use, recreation, water supply and conservation, water quality, energy needs, safety, the transportation network, and in general, the needs and welfare of the people.

5. Additional Review and Consultation. Additional review and consultation, which will be incorporated into the preparation of this DSEIS, will include, but will not necessarily be limited to, Section 401 of Clean Water Act; the National Environmental Policy Act; the Endangered Species Act; and the National Historic Preservation Act.

6. Availability of the Draft Supplemental Environmental Impact Statement. The DSEIS is anticipated to be available in early 2020. A Public Hearing will be conducted following the release of the DSEIS.

Jeffrey S. Palazzini,
Lieutenant Colonel, U.S. Army Corps of Engineers, Charleston District.

[FR Doc. 2018-26341 Filed 12-3-18; 8:45 am]

BILLING CODE 3720-58-P